DEPARTMENT OF ENERGY

Electricity Advisory Committee

AGENCY: Department of Energy.

ACTION: Notice of Cancellation of Open Meeting.

SUMMARY: On September 11, 2013, in FR Doc. 2013-22119, on pages 55692-55693, the Department of Energy (DOE) published a notice of open meeting announcing a meeting on October 2-3, 2013 of the Electricity Advisory Committee (78 FR 55692). This notice announces the cancellation of this meeting.

FOR FURTHER INFORMATION CONTACT: Matthew Rosenbaum,, U.S. Department of Energy, 1000 Independence Avenue SW., Washington, DC 20585; Phone: (202) 586-1060.

Issued at Washington, DC on September 30, 2013.
LaTanya R. Butler,
Deputy Committee Management Officer.

[FR Doc. 2013-24246 Filed 9-30-13; 4:15 pm]

BILLING CODE 6450-01-P